DEPARTMENT OF THE INTERIOR

Fish and Wildlife Service

50 CFR Part 17

Endangered and Threatened Wildlife and Plants: 90-Day Finding on a Petition To List the California Spotted Owl as Threatened or Endangered

AGENCY: Fish and Wildlife Service, Interior.

ACTION: Notice of reopening of public comment period.

SUMMARY: We, the U.S. Fish and Wildlife Service (Service), announce the reopening of the public comment period for the status review initiated by the 90-day finding on a petition to list the California spotted owl (Strix occidentalis occidentalis) as threatened or endangered, under the Endangered Species Act of 1973, as amended (16 U.S.C. 1531 et seq.) (Act). On June 21, 2005 (70 FR 35607), we published a positive 90-day finding and initiated a status review of the subspecies to determine if listing under the Act is warranted. The original comment period closed on August 22, 2005. To ensure that the status review is comprehensive, we are reopening the comment period to solicit additional scientific and commercial information regarding this subspecies. This will allow all interested parties an additional opportunity to provide information on the status of the subspecies under the Act.

DATES: To be considered in the 12-month finding for this petition, comments and information must be submitted directly to the Service (see ADDRESSES) by October 28, 2005. All comments submitted to the Service from June 21, 2005, through October 28, 2005, will be considered by the Service in the development of the 12-month finding, but any comments received after the closing date may not be considered in that finding.

ADDRESSES: If you wish to comment, you may submit your comments, new information, materials, or questions concerning this species by any one of the following methods:

(1) You may submit written comments to the Field Supervisor (Attn: California Spotted Owl), U.S. Fish and Wildlife Service, Sacramento Fish and Wildlife Office, 2800 Cottage Way, Suite W-2605, Sacramento, CA 95825.

(2) You may send comments by electronic mail (e-mail) to: ca_spotted_owl@fws.gov. See the “Public Comments Solicited” section below for file format and other information on electronic filing.

(3) You may fax your comments to (916) 414-6712.

(4) You may hand-deliver comments to our Sacramento Fish and Wildlife Office at the address above.

See also the “Public Information Solicited” section for more information on submitting comments.

All comments and materials received, as well as supporting documentation used in the preparation of the 90-day finding, status review, and 12-month finding, will be available for public inspection, by appointment, during normal business hours, at the above address. You may obtain copies of the 90-day finding from the above address, by calling (916) 414-6600, or from our Web site at http://www.fws.gov/pacific/sacramento/.

FOR FURTHER INFORMATION CONTACT: Arnold Roessler, Sacramento Fish and Wildlife Office (see ADDRESSES above), or at telephone (916) 414-6600, or by facsimile at (916) 414-6712. You may also obtain additional information on our Web site at http://www.fws.gov/pacific/sacramento/. Information regarding the 90-day finding is available in alternative formats upon request.

SUPPLEMENTARY INFORMATION:

Public Information Solicited

We request any additional data, comments, and suggestions from the public, other concerned governmental agencies, Native American Tribes, the scientific community, industry, or any other interested parties concerning the status of the California spotted owl. Of particular interest in the status review is information pertaining to the factors the Service uses to determine if a species is threatened or endangered: (1) Present or threatened destruction, modification, or curtailment of its habitat or range; (2) overutilization for commercial, recreational, scientific, or educational purposes; (3) disease or predation; (4) inadequacy of existing regulatory mechanisms; and (5) other natural or human-caused factors affecting its continued existence.

We are particularly seeking comments and information concerning the following:

(1) Biological, commercial trade, or other relevant data concerning any threat (or lack thereof) to the California spotted owl;

(2) The location of any additional subpopulations or breeding sites of this species, and the reasons why any habitat should or should not be determined to be critical habitat pursuant to section 4 of the Act;

(3) Additional information concerning the range, distribution, and population sizes of this species; and

(4) Information regarding barred owl (Strix varia) range, distribution, and population size as it relates to California spotted owl.

(5) Current or planned activities or land use practices in the subject area and their possible impacts on this animal.

In addition, we request data and information regarding the changes identified in the “Summary of Threats Analysis” section in the 90-day finding (70 FR 35607).

Finally, if we determine that listing the owl is warranted, it is our intent to propose critical habitat to the maximum extent prudent and determinable at the time we would propose to list the species. Therefore, we request scientific information on what may constitute physical or biological features essential to the conservation of the species, where these features are currently found and whether any of these areas are in need of special management, and whether there are areas not containing these features which might be essential to the conservation of the species. Please provide specific comments as to what, critical habitat, if any, should be proposed for designation if the species is proposed for listing, and why that proposed habitat meets the requirements of the Act.

Previously submitted comments need not be resubmitted. If you submit comments by electronic mail (e-mail), please submit them as an ASCII file and avoid the use of special characters and any form of encryption. Please also include “Attn: California Spotted Owl Status Review” and your name and address in your e-mail message. If you do not receive a confirmation from the system that we have received your e-mail message, contact us directly by calling the Sacramento Fish and Wildlife Office (see ADDRESSES).

Our practice is to make comments, including names and home addresses of respondents, available for public review during regular business hours. Respondents may request that we withhold their home address, which we will honor to the extent allowable by law. There also may be circumstances in which we would withhold a respondent's identity, as allowable by law. If you wish us to withhold your name and/or address, you must state this request prominently at the beginning of your comment. We will not consider anonymous comments. To the extent consistent with applicable law, we will make all submissions from organizations or businesses, and from individuals identifying themselves as representatives or officials of organizations or businesses, available for public inspection in their entirety. Comments and materials received will be available for public inspection, by appointment, during normal business hours at the above address.

Background

On June 21, 2005 (70 FR 35607), we published a positive 90-finding on a petition to list the California spotted owl as threatened or endangered under the Act (i.e., we determined that the petition presents substantial scientific or commercial information indicating that listing the species may be warranted). For further information regarding the biology of this subspecies, previous Federal actions, factors affecting the subspecies, and conservation measures available to the California spotted owl, please refer to the 90-day finding (70 FR 35607) and previous Federal Register notices regarding the California spotted owl (65 FR 60605; 68 FR 7580).

When we make a positive 90-day finding, we are required to promptly commence a review of the status of the species. Based on results of the status review, we will make a 12-month finding as required by section 4(b)(3)(B) of the Act on or before March 14, 2006. To ensure that the status review is complete and based on the best available scientific and commercial data, we are soliciting additional information on the California spotted owl. Pursuant to 50 CFR 424.16(c)(2), we may extend or reopen a comment period upon finding that there is good cause to do so. Because of the large volume of information relating to forest management activities within the range of the California spotted owl, and the number of scientists involved in monitoring the status of the California spotted owl and its habitat, we seek additional time to receive information and comments relating to the status of the owl from federal, state, and private scientists. We will reopen the comment period until October 28, 2005. This reopening of the comment period will not affect the date by which the Service will make its 12-month finding.

Author

The primary authors of this notice are staff of the Sacramento Fish and Wildlife Office (see ADDRESSES).

Authority

The authority for this action is the Endangered Species Act of 1973 (16 U.S.C. 1531 et seq.).

Dated: September 23, 2005.
Marshall P. Jones Jr.,
Deputy Director, U.S. Fish and Wildlife Service.

[FR Doc. 05-20646 Filed 10-13-05; 8:45 am]

BILLING CODE 4310-55-P